DEPARTMENT OF STATE

[Delegation of Authority 273]

Delegation of Authority Under Presidential Proclamation No. 7750 of January 12, 2004 Suspending Entry of Persons Engaged in or Benefiting From Corruption

1. General Delegation

By virtue of the authority vested in me as Secretary of State, I hereby delegate to the Under Secretary for Political Affairs, to the extent authorized by law, the functions vested in the Secretary of State by Presidential Proclamation No. 7750.

2. Technical Provisions

(a) Notwithstanding this delegation of authority, the Secretary of State and the Deputy Secretary of State may exercise any function delegated to the Under Secretary for Political Affairs by this delegation.

(b) As used in this delegation of authority, the term “functions” includes any duty, obligation, power, authority, responsibility, right, privilege, discretion, determination, or activity, including the authority to issue, amend, revise, or otherwise provide for standards and procedures implementing Presidential Proclamation No. 7750 of January 12, 2004.

(c) The functions delegated by this delegation of authority may not be redelegated.

Dated: February 4, 2004.
Colin L. Powell,
Secretary of State, Department of State.

[FR Doc. 04-4004 Filed 2-23-04; 8:45 am]

BILLING CODE 4710-17-P